DEPARTMENT OF TRANSPORTATION

National Highway Traffic Safety Administration

[Docket No. NHTSA-2012-0004; Notice 1]

Ford Motor Company, Receipt of Petition for Decision of Inconsequential Noncompliance

AGENCY: National Highway Traffic Safety Administration, DOT.

ACTION: Receipt of Petition.

SUMMARY: Ford Motor Company ¹ (Ford) has determined that certain model year 2012 Ford Focus model passenger cars manufactured between May 12, 2011 and May 18, 2011, do not fully comply with paragraph S5.2.1 of Federal Motor Vehicle Safety Standard (FMVSS) No. 101, Controls and Displays and paragraphs S5.5.5 of FMVSS No. 135, Light Vehicle Brake Systems. Ford has filed an appropriate report pursuant to 49 CFR Part 573, Defect and Noncompliance Responsibility and Reports (dated July 7, 2011).

¹ Ford Motor Company is a motor vehicle manufacturer incorporated under the laws of the state of Delaware.

Pursuant to 49 U.S.C. 30118(d) and 30120(h) (see implementing rule at 49 CFR part 556), Ford has petitioned for an exemption from the notification and remedy requirements of 49 U.S.C. chapter 301 on the basis that this noncompliance is inconsequential to motor vehicle safety.

This notice of receipt of Ford's petition is published under 49 U.S.C. 30118 and 30120 and does not represent any agency decision or other exercise of judgment concerning the merits of the petition.

Affected are approximately 485 model year 2012 Ford Focus model passenger cars that were manufactured between May 12, 2011 and May 18, 2011.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 485 ² model year 2012 Ford Focus model passenger cars that Ford no longer controlled at the time it determined that the noncompliance existed.

² Ford's petition, which was filed under 49 CFR part 556, requests an agency decision to exempt Ford as a vehicle manufacturer from the notification and recall responsibilities of 49 CFR part 573 for 485 of the affected vehicles. However, a decision on this petition cannot relieve vehicle distributors and dealers of the prohibitions on the sale, offer for sale, introduction or delivery for introduction into interstate commerce of the noncompliant vehicles under their control after Ford notified them that the subject noncompliance existed.

Paragraph S5.2.1 of FMVSS No. 101 requires:

S5.2.1. Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table 2. The Low Tire Pressure Telltale (either the display identifying which tire has low pressure or the display which does not identify which tire has low pressure) shall be identified by the appropriate symbol designated in column 4, or both the symbol in column 4 and the words in column 3. No identification is required for any horn (i.e., audible warning signal) that is activated by a lanyard or by the driver pressing on the center of the face plane of the steering wheel hub; or for a turn signal control that is operated in a plane essentially parallel to the face plane of the steering wheel in its normal driving position and which is located on the left side of the steering column so that it is the control on that side of the column nearest to the steering wheel face plane. However, if identification is provided for a horn control in the center of the face plane of the steering wheel hub, the identifier must meet Table 2 requirements for the horn.

Paragraphs S5.5.5 of FMVSS No. 135 requires in pertinent part:

S5.5.5. Labeling. (a) Each visual indicator shall display a word or words in accordance with the requirements of Standard No. 101 (49 CFR 571.101) and this section, which shall be legible to the driver under all daytime and nighttime conditions when activated. Unless otherwise specified, the words shall have letters not less than 3.2 mm (⅛ inch) high and the letters and background shall be of contrasting colors, one of which is red. Words or symbols in addition to those required by Standard No. 101 and this section may be provided for purposes of clarity.

(b) Vehicles manufactured with a split service brake system may use a common brake warning indicator to indicate two or more of the functions described in S5.5.1(a) through S5.5.1(g). If a common indicator is used, it shall display the word “Brake.” * * *

Ford explained that the noncompliance is that the telltales used for Brake Warning, Park Brake Warning and Antilock Braking System (ABS) failure warnings are displayed using International Organization for Standardization (ISO) symbols instead of the telltale symbols required by FMVSS Nos. 101 and 135.

Ford stated its belief that although the instrument cluster telltale symbols are displayed using ISO symbols the noncompliance is inconsequential to motor vehicle safety for the following reasons:

(1) The Owners Guide for the subject vehicles is written for multiple markets and depicts both the “BRAKE” and ISO symbol telltales for brake warning conditions.

(2) Paragraph S5.5.1 of FMVSS No. 135 states that the warning indicator must identify a gross loss of fluid or fluid pressure and identify if the parking brake is applied and is satisfied by a separate ABS lamp which complies with all requirements of FMVSS No. 135 and FMVSS No. 101.

(3) In the event that the brake fluid level in the master cylinder reservoir is less than the recommended safe level, the ISO symbol will illuminate and a warning message will display in the Message Center that states “BRAKE FLUID LEVEL LOW SERVICE NOW” and an initial warning chime will sound. The message will stay continuously displayed until acknowledged by the operator, provided there are no other serious message(s), which would result in the messages alternating. If the brake fluid is still low on subsequent key cycles the message will be redisplayed in the message center. If the message is acknowledged by the operator a red “i” is illuminated on the instrument cluster noting that an important message is stored and can be re-accessed by requesting a System Check.

(4) The parking brake in the subject vehicle is set by pulling up on the parking brake handle, which is located on the center console adjacent to the gear shift lever. Thus the application of the parking brake is in full view of the operator. When the parking brake is engaged it illuminates the ISO symbol and should the operator proceed with the parking brake engaged, a warning message “PARK BRAKE APPLIED” and an initial audible chime will sound when the vehicle is driven at six miles per hour or greater for more than five seconds, in addition to the vehicle feedback of a lack of acceleration. The warning message will time out after ten seconds but a red “i” remains illuminated noting that an important message is stored and can be re-acessed by requesting a System Check. If the operator continues to drive with the parking brake engaged, after 30 seconds the warning message “PARK BRAKE APPLIED” will return, along with a warning chime.

(5) In all cases the ISO symbol for the brake telltale illuminates and remains illuminated in accordance with the requirements of FMVSS No. 135.

(6) Ford is unaware of any field or owner complaints regarding the issue of non compliant telltales.

In summation, Ford believes that the described noncompliance of its vehicles is inconsequential to motor vehicle safety, and that its petition, to exempt it from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: By logging onto the Federal Docket Management System (FDMS) Web site at http://www.regulations.gov. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

DATES: Comment closing date: March 5, 2012.

Authority: 49 U.S.C. 30118, 30120: delegations of authority at CFR 1.50 and 501.8.

Issued on: January 27, 2012.
Claude H. Harris,
Director, Office of Vehicle Safety Compliance.

[FR Doc. 2012-2307 Filed 2-1-12; 8:45 am]

BILLING CODE 4910-59-P